ENVIRONMENTAL PROTECTION AGENCY

[FRL-8214-6]

Proposed CERCLA Section 122(h) Administrative Agreement for Recovery of Past Costs for the Feldman Barrel and Drum Superfund Site, Buffalo, Erie County, NY

AGENCY: Environmental Protection Agency (EPA).

ACTION: Notice; request for public comment.

SUMMARY: In accordance with section 122(I) of the Comprehensive Environmental Response, Compensation, and Liability Act of 1980, as amended (“CERCLA”), 42 U.S.C. 9622(I), notice is hereby given by the U.S. Environmental Protection Agency (“EPA”), Region II, of a proposed administrative agreement pursuant to section 122(h) of CERCLA, 42 U.S.C. 9622(h), with 17 settling parties, for recovery of past response costs concerning the Feldman Barrel and Drum Superfund Site (“Site”) located in Buffalo, Erie County, New York. The settlement requires the settling parties to pay the EPA Hazardous Substance Superfund a total $346,188. The settlement includes a covenant not to sue the Settling Parties pursuant to Section 107(a) of CERCLA, 42 U.S.C. 9607(a), for EPA's past response costs. For thirty (30) days following the date of publication of this notice, EPA will receive written comments relating to the settlement. EPA will consider all comments received and may modify or withdraw its consent to the settlement if comments received disclose facts or considerations that indicate that the proposed settlement is inappropriate, improper or inadequate. EPA's response to any comments received will be available for public inspection at EPA Region II, 290 Broadway, New York, New York 10007-1866.

DATES: Comments must be submitted on or before September 29, 2006.

ADDRESSES: To request a copy of the proposed settlement agreement, please contact the individual identified below. The proposed settlement is also available for public inspection at EPA Region II offices at 290 Broadway, New York, New York 10007-1866. Comments should reference the Feldman Barrel and Drum Superfund Site, Buffalo, Erie County, New York, Index No. CERCLA-02-2006-2005.

FOR FURTHER INFORMATION CONTACT: Brian Carr, Assistant Regional Counsel, New York/Caribbean Superfund Branch, Office of Regional Counsel, U.S. Environmental Protection Agency, 290 Broadway—17th Floor, New York, New York 10007-1866. Telephone: 212-637-3170.

Dated: June 29, 2006.
George Pavlou,
Division Director, Emergency Remedial Response Division, Region 2.

[FR Doc. E6-14426 Filed 8-29-06; 8:45 am]

BILLING CODE 6560-50-P